DEPARTMENT OF HEALTH AND HUMAN SERVICES

Centers for Disease Control and Prevention

[30Day-21-0222]

Agency Forms Undergoing Paperwork Reduction Act Review

In accordance with the Paperwork Reduction Act of 1995, the Centers for Disease Control and Prevention (CDC) has submitted the information collection request titled The Collaborating Center for Questionnaire Design and Evaluation Research (CCQDER) to the Office of Management and Budget (OMB) for review and approval. CDC previously published a “Proposed Data Collection Submitted for Public Comment and Recommendations” notice on May 26, 2021 to obtain comments from the public and affected agencies. CDC received no comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

The Collaborating Center for Questionnaire Design and Evaluation Research (CCQDER) (OMB Control No. 0920-0222, Exp. 08/31/2021)—Revision—National Center for Health Statistics (NCHS), Centers for Disease Control and Prevention (CDC).

Background and Brief Description

Section 306 of the Public Health Service (PHS) Act (42 U.S.C. 242k), as amended, authorizes that the Secretary of Health and Human Services (DHHS), acting through NCHS, shall undertake and support (by grant or contract) research, demonstrations, and evaluations respecting new or improved methods for obtaining current data to support statistical and epidemiological activities for the purpose of improving the effectiveness, efficiency, and quality of health services in the United States.

The Collaborating Center for Questionnaire Design and Evaluation Research (CCQDER) is the focal point within NCHS for questionnaire and survey development, pre-testing, and evaluation activities for CDC surveys such as: The National Survey of Family Growth (NSFG), the Research and Development Survey (RANDS) (including RANDS COVID), and other federally sponsored surveys.

The CCQDER and other NCHS programs conduct cognitive interviews, focus groups, in-depth or ethnographic interviews, usability tests, field tests/pilot interviews, and experimental research in laboratory and field settings, both for applied questionnaire development and evaluation, as well as more basic research on measurement errors and survey response.

Various techniques to evaluate interviewer-administered, self-administered, telephone, Computer-Assisted Personal Interviewing (CAPI), Computer Assisted Self-Interviewing (CASI), Audio Computer-Assisted Self-Interviewing (ACASI), and web-based questionnaires are used.

The most common questionnaire evaluation method is the cognitive interview. These evaluations are conducted by the CCQDER. The interview structure consists of respondents first answering a draft survey question and then providing textual information to reveal the processes involved in answering the test question. Specifically, cognitive interview respondents are asked to describe how and why they answered the question as they did. Through the interviewing process, various types of question-response problems that would not normally be identified in a traditional survey interview, such as interpretive errors and recall accuracy, are uncovered. By conducting a comparative analysis of cognitive interviews, it is also possible to determine whether particular interpretive patterns occur within particular sub-groups of the population. Interviews are generally conducted in small rounds totaling 40-100 interviews; ideally, the questionnaire is re-worked between rounds, and revisions are tested iteratively until interviews yield relatively few new insights.

Cognitive interviewing is inexpensive and provides useful data on questionnaire performance while minimizing respondent burden. Cognitive interviewing offers a detailed depiction of meanings and processes used by respondents to answer questions, a process that ultimately produces the survey data. As such, the method offers an insight that can transform understanding of question validity and response error. Documented findings from these studies represent tangible evidence of how the question performs. Such documentation also serves CDC data users, allowing them to be critical users in their approach and application of the data.

In addition to cognitive interviewing, a number of other qualitative and quantitative methods are used to investigate and research measurement errors and the survey response process. These methods include conducting focus groups, usability tests, in-depth or ethnographic interviews, and the administration and analysis of questions in both representative and non-representative field tests. Focus groups are conducted by the CCQDER. Focus groups are group interviews whose primary purpose is to elicit the basic sociocultural understandings and terminology that form the basis of questionnaire design. Each group typically consists of one moderator and 4-10 participants, depending on the research question. In-depth or ethnographic interviews are one-on-one interviews designed to elicit the understandings or terminology that are necessary for question design, as well as to gather detailed information that can contribute to the analysis of both qualitative and quantitative data. Usability tests are typically one-on-one interviews that are used to determine how a given survey or information collection tool functions in the field, and how the mode and layout of the instrument itself may contribute to survey response error and the survey response process.

In addition to these qualitative methods, NCHS also uses various tools to obtain quantitative data, which can be analyzed alone or analyzed alongside qualitative data to give a much fuller accounting of the survey response process. For instance, phone, internet, mail, and in-person follow-up interviews of previous NCHS survey respondents may be used to test the validity of survey questions and questionnaires and to obtain more detailed information that cannot be gathered on the original survey. Additionally, field or pilot tests may be conducted on both representative and non-representative samples, including those obtained from commercial survey and web panel vendors. Beyond looking at traditional measures of survey errors (such as item missing rates, non-response, and don't know rates), these pilot tests can be used to run experimental designs in order to capture how different questions function in a field setting. Similar methodology has been adopted by other federal agencies, as well as by academic and commercial survey organizations.

In 2021-2024, NCHS/CCQDER staff plan to continue research on methods evaluation and general questionnaire design research. We envision that over the next three years, NCHS/CCQDER will work collaboratively with survey researchers from universities and other Federal agencies to define and examine several research areas, including, but not limited to: (1) Differences between face-to-face, telephone, and virtual/video over internet cognitive interviewing, (2) effectiveness of different approaches to cognitive interviewing, such as concurrent and retrospective probing, (3) reactions of both survey respondents and survey interviewers to the use of Computer-Assisted Personal Interviewing (CAPI), Audio Computer-Assisted Self-Interview (ACASI), video over internet/virtual, (4) social, cultural and linguistic factors in the question response process, and (5) recruitment and respondent participation at varying levels of incentive in an effort to establish empirical evidence regarding remuneration and coercion. Procedures for each of these studies will be similar to those applied in the usual testing of survey questions. For example, questionnaires that are of current interest (such as RANDS and NIOSH) may be evaluated using several of the techniques described above. In addition, different versions of a survey question will be developed, and the variants then administered to separate groups of respondents in order to study the cognitive processes that account for the differences in responses obtained across different versions.

These studies will be conducted either by CCQDER staff, DHHS staff, or NCHS contractors who are trained in cognitive interviewing techniques. The results of these studies will be applied to our specific questionnaire development activities in order to improve the methods that we use to conduct questionnaire testing, and to guide questionnaire design in general.

OMB approval is requested for three years. Participation is voluntary. We are requesting 9,455 annualized hours, totaling 28,365 over three years. This is an increase of 1,672 hours per year or 5,016 hours over three years. The requested increases are due to an anticipated increase in the number and size of projects being undertaken.

Estimated Annualized Burden Table
Type of respondent | Form name | Number of respondents | Number of responses per respondent | Average burden per response (in hours)
Individuals or households | Eligibility Screeners | 4,400 | 1 | 5/60
Individuals or households | Developmental Questionnaires | 8,750 | 1 | 55/60
Individuals or households | Respondent Data Collection Sheet | 8,750 | 1 | 5/60
Individuals or households | Focus Group Documents | 225 | 1 | 90/60

Jeffrey M. Zirger,
Lead, Information Collection Review Office, Office of Scientific Integrity, Office of Science, Centers for Disease Control and Prevention.

[FR Doc. 2021-17349 Filed 8-12-21; 8:45 am]

BILLING CODE 4163-18-P